DEPARTMENT OF ENERGY

Environmental Management Site-Specific Advisory Board, Oak Ridge

AGENCY: Office of Environmental Management, Department of Energy.

ACTION: Notice of open virtual meeting.

SUMMARY: This notice announces an online virtual meeting of the Environmental Management Site-Specific Advisory Board (EM SSAB), Oak Ridge. The Federal Advisory Committee Act requires that public notice of this online meeting be announced in the Federal Register.

DATES: Wednesday, March 10, 2021; 6:00 p.m.-7:30 p.m.

ADDRESSES: Online Virtual Meeting. To attend, please send an email to: orssab@orem.doe.gov by no later than 5:00 p.m. EST on Wednesday, March 3, 2021.

To Submit Public Comments: Public comments will be accepted via email prior to and after the meeting. Comments received by no later than 5:00 p.m. EST on Wednesday, March 3, 2021 will be read aloud during the virtual meeting. Comments will also be accepted after the meeting, by no later than 5:00 p.m. EST on Monday, March 15, 2021. Please submit comments to orssab@orem.doe.gov.

FOR FURTHER INFORMATION CONTACT: Melyssa P. Noe, Alternate Deputy Designated Federal Officer, U.S. Department of Energy (DOE), Oak Ridge Office of Environmental Management (OREM), P.O. Box 2001, EM-942, Oak Ridge, TN 37831; Phone (865) 241-3315; or Email: Melyssa.Noe@orem.doe.gov. Or visit the website at https://www.energy.gov/orem/services/community-engagement/oak-ridge-site-specific-advisory-board.

SUPPLEMENTARY INFORMATION:

Purpose of the Board: The purpose of the Board is to make recommendations to DOE-EM and site management in the areas of environmental restoration, waste management, and related activities.

Tentative Agenda

• Welcome and Announcements

• Comments from the Deputy Designated Federal Officer (DDFO)

• Comments from the DOE, Tennessee Department of Environment and Conservation, and Environmental Protection Agency Liaisons

• Presentation: Budget Update

• Public Comment Period

• Motions/Approval of February 12, 2020 and March 11, 2020 Meeting Minutes

• Status of Outstanding Recommendations

• Alternate DDFO Report

• Committee Reports

• Adjourn

Public Participation: The online meeting is open to the public. Written statements may be filed with the Board either before or after the meeting as there will not be opportunities for live public comment during this online virtual meeting. The Deputy Designated Federal Officer is empowered to conduct the meeting in a fashion that will facilitate the orderly conduct of business. Individuals wishing to submit public comments should email them as directed above.

Minutes: Minutes will be available by writing or calling Melyssa P. Noe at the address and telephone number listed above. Minutes will also be available at the following website: https://www.energy.gov/orem/listings/oak-ridge-site-specific-advisory-board-meetings.

Signed in Washington, DC, on February 9, 2021.
LaTanya Butler,
Deputy Committee Management Officer.

[FR Doc. 2021-03021 Filed 2-12-21; 8:45 am]

BILLING CODE 6450-01-P